DEPARTMENT OF ENERGY

Federal Energy Regulatory Commission

[Project No. 516]

South Carolina Electric and Gas Company; Notice of Meetings to Discuss Three Filings Before the Commission and Soliciting Comments

December 26, 2002.

The Federal Energy Regulatory Commission (FERC or Commission) will hold meetings in the project area to discuss three matters pending before the Commission associated with the South Carolina Electric and Gas Company's (license or SCE&G) Saluda Project No. 516. The Saluda Project is located on the Saluda River in Richland, Lexington, Saluda, and Newberry counties, near Columbia, South Carolina.

The three matters are as follows: (1) The Commission's request for comments on the September 4, 2002, Environmental Assessment (EA), on SCE&G's applications to sell project lands for future development (subdockets -319, -321, -326, -329, -330, -330, -331, -332, -333, -354, -355, -356, -357, -358, and -359); (2) the Land Use and Shoreline Management Plan update (LUSMP) filed by the licensee on February 1, 2000, and supplemented on March 28, 2002, for Commission review and approval (subdocket -318); and (3)the investigation of alleged unauthorized clearing of lands within the project boundary (subdocket -353).

We invite the written and oral comments from federal and state resource agencies, non-governmental organizations, and the general public at the meetings. We will hold two meetings, one on January 21, 2003, from 6:30-9 p.m. at the Irmo Elementary School, 7401 Gibbes Street, Irmo, SC 29063 and the second meeting on January 22, 2003, from 8:30 a.m.-11:30 a.m. at the Embassy Suites Hotel, Columbia-Greystone, 200 Stoneridge Drive, Columbia, SC 29210. The public and agencies may attend either or both meetings.

SCE&G has requested that the meeting address: (1) A brief history and overview of Lake Murray shoreline management; (2) the status of FERC review of the LUSMP update; (3) the Commission's October 9, 2002, letter regarding shoreline vegetation; (4) the proposed recommendations of the land-sale EA; (5) the factual and scientific basis cited for FERC-imposed shoreline conditions; (6) the standard of proof required to refute allegations of LUSMP violations; (7) the appropriate means for determining factual and scientific basis for evaluation of project lands and waters; and (8) miscellaneous issues as they relate to the three matters.

While we appreciate the suggestions of the licensee, Commission staff will limit comments and discussions to the three maters identified above, and the upcoming licensing process. We also request that the licensee and/or state representative provide a status update on the proposed land swap/donation with the State of South Carolina.

The meetings will be recorded by a stenographer and will become part of the record for this project. An agenda for the meeting is attached.

Interested parties may also file written comments. All such comments (original and eight copies) should be filed with: Magalie R. Salas, Secretary, Federal Energy Regulatory Commission, 888 First Street, NE., Washington, DC 20426. Comments may be filed electronically via the Internet in lieu of paper; see 18 CFR 385.2001(a)(1)(iii) and the instructions on the Commission's Web site under the “e-Filing” link. The Commission strongly encourages electronic filings. Please include the project number (P-516 and appropriate subdocket) on any comments.

The deadline for filing comments is February 28, 2003.

The Commission's rules of practice and procedure require all interveners filing documents with the Commission to serve a copy of that document on each person on the official service list for the project. Further, if an intervener files comments or documents with the Commission relating to the merits of an issue that may affect the responsibilities of a particular resource agency, they must also serve a copy of the document on that resource agency.

Please direct any questions about this meeting to Jack Hannula at (202) 502-8917 or Elizabeth Jones at (202) 502-8246. Licensee contact is Mr. Brian McManus, (202) 879-5452, Attorney on behalf of SCE&G.

Linwood A. Watson, Jr.,

Deputy Secretary.

Saluda Project No. 516; South Carolina Gas & Electric Company

January 21 and January 22, 2002

Meeting Agenda

Irmo School, Tuesday, January 21:

6:30 Introduction and meeting procedures (FERC)

7 History and Overview of Shoreline Management (SCE&G)

7:30 Discussions on SCE&G's applications to sell project lands for future private development; the LUSMP filed for Commission review and approval, and the investigation of alleged unauthorized clearing of lands (All)

8:30 Status of proposed land swap/donation to the state (SCE&G) 8:45 Status of SCE&G's relicensing plans (SCE&G)

Embassy Suites Hotel, Wednesday, January 22

8:30 Introduction and meeting procedures (FERC)

9 History and Overview of Shoreline Management (SCE&G)

9:40 Discussions on SCE&G's applications to sell project lands for future private development; the LUSMP filed for Commission review and approval, and the investigation of alleged unauthorized clearing of lands (All)

10:50 Status of proposed land swap/donation to the state (SCE&G)

11:10 Status of SCE&G's relicensing plans (SCE&G)

Magalie R. Salas,
Secretary.

[FR Doc. 02-33054 Filed 12-31-02; 8:45 am]

BILLING CODE 6717-01-P